DEPARTMENT OF COMMERCE

International Trade Administration

[Docket No. 000515143-0205-02]

RIN 0625-XX23

Special American Business Internship Training Program (SABIT)

AGENCY: International Trade Administration, Commerce.

ACTION: Notice of extension of funding availability for grants under the Special American Business Internship Training Program (SABIT).

SUMMARY: This Notice supplements the Federal Register Notice of May 12, 2000 (65 FR 36117-36120) announcing the availability of funds for the SABIT American Business Internship Training Program (SABIT), for training business executives (also referred to as “interns”) from the Newly Independent States of the Former Soviet Union. All information in the previous announcement remains current, except for the changes to the closing date.

DATES: This Notice extends the closing date of the referenced Federal Register Notice for 1 month to 5 p.m. August 31, 2000. All awards are expected to be made prior to September 30, 2000.

FOR FURTHER INFORMATION CONTACT: Liesel Duhon, Director, Special American Business Internship Training Program, International Trade Administration, U.S. Department of Commerce, phone—(202) 482-0073, facsimile—(202) 482-2443. These are not toll free numbers.

Dated: July 18, 2000.
Liesel Duhon,
Director, SABIT Program.

[FR Doc. 00-18562 Filed 7-20-00; 8:45 am]

BILLING CODE 3510-HE-P